DEPARTMENT OF ENERGY

Federal Energy Regulatory Commission

[Docket No. CP00-362-000]

Texas Gas Transmission Corporation; Notice of Application

May 12, 2000.

Take notice that on May 5, 2000, pursuant to section 7 of the Natural Gas Act (NGA) and part 157 of the Regulations of the Federal Energy Regulatory Commission (Commission), Texas Gas Transmission Corporation (Texas Gas), P.O. Box 20008, Owensboro, Kentucky 42304, filed in Docket No. CP00-362-000 an abbreviated application for a certificate of public convenience and necessity to be issued for the abandonment of five injection/withdrawal wells and the installation and operation of one horizontal injection/withdrawal well within it's Midland Storage Field in Muhlenberg County, Kentucky, all as more fully set forth in the application on file with the Commission and open to public inspection. This filing may be viewed on the web at http://www.ferc.fed.us/online/rims.htm (call 202-208-2222 for assistance).

The name, address, and telephone number of the person to whom correspondence and communications concerning this application should be addressed is: David N. Roberts, Manager of Certificates and Tariffs, Texas Gas Transmission Corporation, PO Box 20008, Owensboro, Kentucky, 42304; Phone No. 270/688-6712.

Texas Gas avers that the well replacement will alleviate safety issues associated with the existing five wells, will restore well deliverability that has deteriorated over time, and will allow for more efficient utilization of the storage reservoir. The project's purpose is not to increase the storage capacity or deliverability of the Texas Gas Midland Storage Field, but simply to guarantee that existing levels can be maintained in a safer, more cost effective and efficient manner so that Texas Gas can continue to meet customer contact obligations.

In association with the installation of the replacement well, Texas Gas will need to construct approximately 300 feet of 8-inch diameter lateral line to connect the well to the existing 16-inch diameter field tributary line. This lateral line will be constructed pursuant to Texas Gas's blanket certificate authorized in Docket No. CP82-407-000 (20 FERC ¶ 62,417 (1982)) and the Commission's blanket certificate regulations found at 18 CFR part 157, including the environmental conditions found at 18 CFR 157.206(b).

Texas Gas has requested expedited review of the application in order to begin drilling of the horizontal replacement well by July 1, 2000. This would allow Texas Gas to complete the proposed well during a period of low field pressure and optimal drilling conditions.

Any person desiring to be heard or any person desiring to make any protest with reference to said application should on or before June 2, 2000, file with the Federal Energy Regulatory Commission, Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become party to a proceeding or to participate as a party in any hearing therein must file a motion to intervene in accordance with the Commission's Rules.

Take further notice that, pursuant to the authority contained in and subject to the jurisdiction conferred upon the Federal Energy Regulatory Commission by sections 7 and 15 of the Natural Gas Act and the Commission's Rules of Practice and Procedure, a hearing will be held without further notice before the Commission or its designee on this application if not motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Texas Gas to appear or be represented at the hearing.

Linwood A. Watson, Jr.,
Acting Secretary.

[FR Doc. 00-12475 Filed 5-17-00; 8:45 am]

BILLING CODE 6717-01-M